DEPARTMENT OF ENERGY

Federal Energy Regulatory Commission

Notice of Transfer of Licenses and Soliciting Comments, Protests, and Motions To Intervene

August 3, 2001.

Take notice that the following hydroelectric application has been filed with the Commission and is available for public inspection:

a. Application Type: Transfer of Licenses.

b. Project Nos: 2492-005, 2618-013, and 2660-013.

c. Date Filed: July 17, 2001.

d. Applicants: Georgia-Pacific Corporation (Georgia-Pacific) and Domtar Maine Corp. (Domtar Maine).

e. Name and Location of Projects: The Vanceboro Project No. 2492 and the Forest City Project No. 2660 are located on the East Branch of the St. Croix River in Washington and Aroostook Counties, Maine. The West Branch Project No. 2618 is located on the West Branch of the St. Croix River in Washington, Hancock, and Penobscot Counties, Maine. These projects do not occupy federal or tribal lands.

f. Filed Pursuant to: Federal Power Act, 16 U.S.C. 791(a)—825(r).

g. Applicant Contacts: For Georgia-Pacific: Mr. Matthew D. Manahan, Pierce Atwood, One Monument Square, Portland, ME 04101, (207) 791-1189. For Domtar Maine: Mr. Sean Mahoney, Verrill & Dana, LLP, One Portland Square, P.O. Box 586, Portland, ME 04112, (207) 774-4000.

h. FERC Contact: James Hunter, (202) 219-2839.

i. Deadline for filing comments and or motions: September 7, 2001.

All documents (original and eight copies) should be filed with: David P. Boergers, Secretary, Federal Energy Regulatory Commission, 888 First Street, NE, Washington DC 20426. Comments, protests and interventions may be filed electronically via the Internet in lieu of paper. See, 18 CFR 385.2001(a)(1)(iii) and the instructions on the Commission's web site under the “e-Filing” link. Please include the noted project numbers on any comments or motions filed.

j. Description of Proposal: The Applicants propose a transfer of the licenses for the Vanceboro, West Branch, and Forest City water storage projects from Georgia-Pacific to Domtar Maine. The transfer is sought in connection with Domtar Maine's intended acquisition of the project resources from Georgia-Pacific. The Applicants state that the personnel who currently manage and operate the projects for Georgia-Pacific will continue to do so for Domtar Maine.

The licenses for the West Branch and Forest City projects expired September 30, and August 31, 2000, respectively, however, notices authorizing continued operation were issued for both projects. The transfer application was filed within five years of the expiration of the licenses for these two projects. In Hydroelectric Relicensing Regulations Under the Federal Power Act (54 Fed. Reg. 23,756; FERC Stats. and Regs., Regs. Preambles 1986-1990 30,854 at p. 31,437), the Commission declined to forbid all license transfers during the last five years of an existing license, and instead indicated that it would scrutinize all such transfer requests to determine if the transfer's primary purpose was to give the transferee an advantage in relicensing (id. at p. 31,438 n. 318).

k. Locations of the application: Copies of this filing are on file with the Commission and are available for public inspection. This filing may be viewed on the Commission's web site at http://www.ferc.gov using the “RIMS” link, select “Docket #” and follow the instructions ((202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-19988 Filed 8-8-01; 8:45 am]

BILLING CODE 6717-01-P